DEPARTMENT OF AGRICULTURE

Federal Crop Insurance Corporation

Grants and Cooperative Agreements; Availability, etc: Commodity Partnerships for Risk Management Education Program

Funding Opportunity Title: Commodity Partnerships for Risk Management Education (Commodity Partnerships program).

Announcement Type: Notice of Funding Availability for Competitive Partnership Agreements—Initial.

CFDA Number: 10.457.

Dates: Applications are due 5 p.m. EDT, May 31, 2005.

Executive Summary: The Federal Crop Insurance Corporation (FCIC), operating through the Risk Management Agency (RMA), announces the availability of approximately $4.0 million for Commodity Partnerships for Risk Management Education (the Commodity Partnerships program). The purpose of this partnership agreement program is to deliver training and information in the management of production, marketing, and financial risk to U.S. agricultural producers. The program gives priority to educating producers of crops currently not insured under Federal crop insurance, specialty crops, and underserved commodities, including livestock and forage. A maximum of 40 partnership agreements will be funded, with no more than four in each of the ten designated RMA Regions. The maximum award for any partnership agreement will be $150,000. Recipients of awards must demonstrate non-financial benefits from a partnership agreement and must agree to the substantial involvement of RMA in the project. Funding availability for this program may be announced at approximately the same time as funding availability for similar but separate programs—CFDA No. 10.455 (Community Outreach and Assistance Partnerships), CFDA No. 10.456 (Risk Management Research Partnerships), CFDA No. 10.458 (Crop Insurance Education in Targeted States) and CFDA No. 10.459 (Commodity Partnerships for Small Agricultural Risk Management Education Sessions). Prospective applicants should carefully examine and compare the notices for each program.

Full Text of Announcement

I. Funding Opportunity Description

Legislative Authority

The Commodity Partnerships program is authorized under section 522(d)(3)(F) of the Federal Crop Insurance Act (Act) (7 U.S.C. 1522(d)(3)(F).

Background

RMA promotes and regulates sound risk management solutions to improve the economic stability of American agriculture. On behalf of FCIC, RMA does this by offering Federal crop insurance products through a network of private-sector partners, overseeing the creation of new risk management products, seeking enhancements in existing products, ensuring the integrity of crop insurance programs, offering outreach programs aimed at equal access and participation of underserved communities, and providing risk management education and information. One of RMA's strategic goals is to ensure that its customers are well informed as to the risk management solutions available. This educational goal is supported by section 522(d)(3)(F) of the Act, which authorizes FCIC funding for risk management training and informational efforts for agricultural producers through the formation of partnerships with public and private organizations. With respect to such partnerships, priority is to be given to reaching producers of Priority Commodities, as defined below.

Definition of Priority Commodities

For purposes of this program, Priority Commodities are defined as:

• Agricultural commodities covered by (7 U.S.C. 7333). Commodities in this group are commercial crops that are not covered by catastrophic risk protection crop insurance, are used for food or fiber (except livestock), and specifically include, but are not limited to, floricultural, ornamental nursery, Christmas trees, turf grass sod, aquaculture (including ornamental fish), and industrial crops.

• Specialty crops. Commodities in this group may or may not be covered under a Federal crop insurance plan and include, but are not limited to, fruits, vegetables, tree nuts, syrups, honey, roots, herbs, and highly specialized varieties of traditional crops.

• Underserved commodities. This group includes: (a) Commodities, including livestock and forage, that are covered by a Federal crop insurance plan but for which participation in an area is below the national average; and (b) commodities, including livestock and forage, with inadequate crop insurance coverage.

A project is considered as giving priority to Priority Commodities if the majority of the educational activities of the project are directed to producers of any of the three classes of commodities listed above or any combination of the three classes.

Project Goal

The goal of this program is to ensure that “* * * producers will be better able to use financial management, crop insurance, marketing contracts, and other existing and emerging risk management tools.”

Purpose

The purpose of the Commodity Partnership program is to provide U.S. farmers and ranchers with training and informational opportunities to be able to understand:

• The kinds of risks addressed by existing and emerging risk management tools;

• The features and appropriate use of existing and emerging risk management tools; and

• How to make sound risk management decisions.

For 2005, the FCIC Board of Directors and the FCIC Manager are seeking projects with priorities that include risk management training in one of the following areas:

• Multi-Year Losses—Drought Mitigation

• Livestock Risk Management

• Soybean Rust (Disease)

• Quality of Crop Losses—(such as Kansas wheat sprout, peas, lentils)

• AGR and AGR-Lite crop insurance

• Forage, Pasture, Rangeland

II. Award Information

Type of Award: Partnership Agreements, which require the substantial involvement of RMA.

Funding Availability: Approximately $4,000,000 is available in fiscal year 2005 to fund up to 40 partnership agreements. The maximum award for any agreement will be $150,000. It is anticipated that a maximum of four agreements will be funded for each designated RMA Region.

Applicants should apply for funding under that RMA Region where the educational activities will be directed.

In the event that all funds available for this program are not obligated after the maximum number of agreements are awarded or if additional funds become available, these funds may, at the discretion of the Manager of FCIC, be used to award additional applications that score highly by the technical review panel or allocated pro-rata to award recipients for use in broadening the size or scope of awarded projects if agreed to by the recipient. In the event that the Manager of FCIC determines that available RMA resources cannot support the administrative and substantial involvement requirements of all agreements recommended for funding, the Manager may elect to fund fewer agreements than the available funding might otherwise allow. It is expected that the awards will be made approximately 60 days after the application deadline. All awards will be made and agreements finalized no later than September 30, 2005.

Location and Target Audiences: RMA Regional Offices and the States serviced within each Region are listed below. Staff from the respective RMA Regional Offices will provide substantial involvement for projects conducted within their Region.

Billings, MT Regional Office: (MT, WY, ND, and SD)

Davis, CA Regional Office: (CA, NV, UT, AZ, and HI)

Jackson, MS Regional Office: (KY, TN, AR, LA, and MS)

Oklahoma City, OK Regional Office: (OK, TX, and NM)

Raleigh, NC Regional Office: (ME, NH, VT, MA, RI, CT, NY, NJ, PA, MD, DE, WV, VA, and NC)

Spokane, WA Regional Office: (WA, ID, OR, and AK)

Springfield, IL Regional Office: (IL, IN, OH, and MI)

St. Paul, MN Regional Office: (MN, WI, and IA)

Topeka, KS Regional Office: (KS, MO, NE, and CO)

Valdosta, GA Regional Office: (AL, GA, SC, FL, and Puerto Rico)

Applicants must designate in their application narratives the RMA Region where educational activities will be conducted and the specific groups of producers within the region that the applicant intends to reach through the project. Priority will be given to producers of Priority Commodities. Applicants proposing to conduct educational activities in more than one RMA Region must submit a separate application for each RMA Region. This requirement is not intended to preclude producers from areas that border a designated RMA Region from participating in that region's educational activities. It is also not intended to prevent applicants from proposing the use of certain informational methods, such as print or broadcast news outlets, that may reach producers in other RMA Regions.

Maximum Award: Any application that requests Federal funding of more than $150,000 for a project will be rejected.

Project Period: Projects will be funded for a period of up to one year from the project starting date.

Description of Agreement Award:

Recipient Tasks

In conducting activities to achieve the purpose and goal of this program in a designated RMA Region, the award recipient will be responsible for performing the following tasks:

• Finalize and provide specific details for the Statement of Work (Form RME-2). The Statement of Work must describe the specific manner in which various subtasks for the project will be completed, the dates by which each task and subtask will be completed, the specific location for all promotional and educational activities, and the partners that will have responsibility for each task and subtask. Task milestones must be listed in a way that ensures that progress can be measured at various stages throughout the life of the project. The Statement of Work must also provide for the substantial involvement of RMA in the project. All partnership agreements resulting from this announcement will include Statements of Work based on Form RME-2. All applicants must use this format for proposing Statements of Work.

• Assemble speaker/presentation materials appropriate for risk management education and information within the designated RMA Region. This will include: (a) Gathering existing instructional materials that meet the local needs of agricultural producers; (b) identifying gaps in existing instructional materials; and (c) developing new materials or modifying existing instructional materials to fill existing gaps.

• Develop and conduct a promotional program. This program will include activities using media, newsletters, publications, or other appropriate informational dissemination techniques that are designed to: (a) Raise awareness for risk management; (b) inform producers of the availability of risk management tools; and (c) inform producers and agribusiness leaders in the designated RMA Region of training and informational opportunities.

• Deliver risk management training and informational opportunities to agricultural producers and agribusiness professionals in the designated RMA Region. This will include organizing and delivering educational activities using the instructional materials identified earlier. Activities should be directed primarily to agricultural producers, but may include those agribusiness professionals that have frequent opportunities to advise producers on risk management tools and decisions.

• Document all educational activities conducted under the partnership agreement and the results of such activities, including criteria and indicators used to evaluate the success of the program. The recipient will also be required to provide information to an RMA-selected contractor to evaluate all educational activities and advise RMA as to the effectiveness of activities.

RMA Activities

FCIC, working through RMA, will be substantially involved during the performance of the funded project through RMA's ten Regional Offices. Potential types of substantial involvement may include, but are not limited to the following activities.

• Assist in the selection of subcontractors and project staff.

• Collaborate with the recipient in assembling, reviewing, and approving risk management materials for producers in the designated RMA Region.

• Collaborate with the recipient in reviewing and approving a promotional program for raising awareness for risk management and for informing producers of training and informational opportunities in the RMA Region.

• Collaborate with the recipient on the delivery of education to producers and agribusiness leaders in the RMA Region. This will include: (a) Reviewing and approving in advance all producer and agribusiness leader educational activities; (b) advising the project leader on technical issues related to crop insurance education and information; and (c) assisting the project leader in informing crop insurance professionals about educational activity plans and scheduled meetings.

Applications that do not contain substantial involvement by RMA will be rejected.

Other Tasks

In addition to the specific, required tasks listed above, the applicant may propose additional tasks that would contribute directly to the purpose of this program. For any proposed additional task, the applicant must identify the objective of the task, the specific subtasks required to meet the objective, specific time lines for performing the subtasks, and the specific responsibilities of partners. The applicant must also identify specific ways in which RMA would have substantial involvement in the proposed project task.

III. Eligibility Information

1. Eligible Applicants

Eligible applicants include State departments of agriculture, universities, non-profit agricultural organizations, and other public or private organizations with the capacity to lead a local program of risk management education for farmers and ranchers in an RMA Region. Individuals are not eligible applicants. Although an applicant may be eligible to compete for an award based on its status as an eligible entity, other factors may exclude an applicant from receiving Federal assistance under this program governed by Federal law and regulations (e.g. debarment and suspension; a determination of non-performance on a prior contract, cooperative agreement, grant or partnership; a determination of a violation of applicable ethical standards). Applications from ineligible or excluded persons will be rejected in their entirety.

2. Cost Sharing or Matching

This program has neither a cost sharing nor a matching requirement.

3. Other—Non-Financial Benefits

To be eligible, applicants must also be able to demonstrate that they will receive a non-financial benefit as a result of a partnership agreement. Non-financial benefits must accrue to the applicant and must include more than the ability to provide employment income to the applicant or for the applicant's employees or the community. The applicant must demonstrate that performance under the partnership agreement will further the specific mission of the applicant (such as providing research or activities necessary for graduate or other students to complete their educational program). Applicants that do not demonstrate a non-financial benefit will be rejected.

IV. Application and Submission Information

1. Address To Request Application Package

Program application materials for the Commodity Partnerships program under this announcement may be downloaded from the RMA Web site at: http://www.rma.usda.gov. Applicants may also request application materials from: Michelle Fuller, USDA-RMA-RME, 1400 Independence Ave., SW., Stop 0808, (Portals Bldg., Suite 508), Washington, DC 20250-0808, phone: (202) 720-6356, fax: (202) 690-3605, e-mail: RMA.Risk-Ed@rma.usda.gov.

2. Content and Form of Application Submission

A complete and valid application package must include an electronic copy (Microsoft Word format preferred) of the narrative portion (Forms RME 1 and RME 2) of the application package on diskette or compact disc and an original and two copies of the completed and signed application must be submitted in one package at the time of initial submission. RMA would appreciate receiving nine additional copies to facilitate the panel review process (twelve applications in all), which must include the following:

1. A completed and signed OMB Standard Form 424, “Application for Federal Assistance.”

2. A completed and signed OMB Standard Form 424-A, “Budget Information—Non-construction Programs.” Indirect costs allowed for projects submitted under this announcement will be limited to ten (10) percent of the total direct cost of the partnership agreement. Federal funding requested (the total of direct and indirect costs) must not exceed $150,000. Applicants may be asked to provide a copy of their indirect cost rate negotiated with their cognizant agency.

3. A completed and signed OMB Standard Form 424-B, “Assurances, Non-constructive Programs.”

4. Risk Management Education Project Narrative (Form RME-1). Complete all required parts of Form RME-1:

Part I—Title Page

Part II—A written narrative of no more than 10 single-sided pages which will provide reviewers with sufficient information to effectively evaluate the merits of the application according to the evaluation criteria listed in this notice. Although a Statement of Work, which is the second evaluation criterion, is to be completed in detail in RME Form-2, applicants may wish to highlight certain unique features of the Statement of Work in Part II for the benefit of the evaluation panel. If your narrative exceeds the page limit, only the first 10 pages will be reviewed.

• 12 point, unreduced font size.

• 8.5 by 11 inch paper.

• One-inch margins on each page.

• Printed on only one side of paper.

• Held together only by rubber bands or metal clips; not bound in any other way

Part III—A Budget Narrative, describing how the categorical costs listed on SF 424-A are derived.

Part IV—Provide a “Statement of Non-financial Benefits.” (Refer to Section III, Eligibility Information, above).

5. “Statement of Work,” Form RME-2, which identifies tasks and subtasks in detail, expected completion dates and deliverables, and RMA's substantial involvement role for the proposed project.

6. (Optional) An optional appendix containing project participant resumes, letters of partnership support, or other materials that the applicant believes will directly support the information provided in the narrative. Applicants should not seek letters of partnership support from RMA Regional Offices because these offices will automatically provide substantial involvement in all projects that are awarded funding.

7. A completed and signed OMB Standard Form LLL, “Disclosure of Lobbying Activities.”

8. A completed and signed AD-1047, “Certification Regarding Debarment, Suspension and Other Responsibility Matters “ Primary Covered Transactions.”

9. A completed and signed AD-1049, “Certification Regarding Drug-Free Workplace.”

3. Submission Dates and Times

Applications Deadline: 5 p.m. EDT, May 31, 2005. Applicants are responsible for ensuring that RMA receives a complete application package by the closing date and time. Incomplete or late application packages will not receive further consideration.

4. Intergovernmental Review

Not applicable.

5. Funding Restrictions

Partnership agreement funds may not be used to:

a. Plan, repair, rehabilitate, acquire, or construct a building or facility including a processing facility;

b. Purchase, rent, or install fixed equipment;

c. Repair or maintain privately owned vehicles;

d. Pay for the preparation of the partnership agreement application;

e. Fund political activities;

f. Alcohol, food, beverage, or entertainment;

g. Pay costs incurred prior to receiving a partnership agreement;

h. Fund any activities prohibited in 7 CFR Parts 3015 and 3019, as applicable.

6. Other Submission Requirements

Mailed submissions: Applications submitted through express, overnight mail or another delivery service will be considered as meeting the announced deadline if they are received in the mailroom at the address stated below for express, overnight mail or another delivery service on or before the deadline. Applicants are cautioned that express, overnight mail or other delivery services do not always deliver as agreed. Applicants should take this into account because failure of such delivery services will not extend the deadline. Mailed applications will be considered as meeting the announced deadline if they are received on or before the deadline in the mailroom at the address stated below for mailed applications. Applicants are responsible for mailing applications well in advance, to ensure that applications are received on or before the deadline time and date. Applicants using the U.S. Postal Services should allow for the extra time for delivery due to the additional security measures that mail delivered to government offices in the Washington DC area requires.

Address when using private delivery services or when hand delivering: Attention: Risk Management Education Program, USDA/RMA, 1250 Maryland Avenue, SW., Suite 508, Washington, DC 20024.

Address when using U.S. Postal Services: Attention: Risk Management Education Program, USDA/RMA, Stop 0808, 1400 Independence Ave, SW., Washington, DC 20250-0808.

Electronic submissions: Although the application package may be downloaded electronically, RMA cannot accommodate transmissions of application submissions by facsimile or through other electronic media. Therefore, applications transmitted electronically will not be accepted regardless of the date or time of submission or the time of receipt.

Acknowledgement of Applications

Receipt of applications will be acknowledged by e-mail, whenever possible. Therefore, applicants are encouraged to provide e-mail addresses in their applications. If an e-mail address is not indicated on an application, receipt will be acknowledged by letter. There will be no notification of incomplete, unqualified or unfunded applications until the awards have been made. When received by RMA, applications will be assigned an identification number. This number will be communicated to applicants in the acknowledgement of receipt of applications. An application's identification number should be referenced in all correspondence regarding the application. If the applicant does not receive an acknowledgement within 15 days of the submission deadline, the applicant should notify RMA's point of contact indicated in Section VII, Agency Contact.

V. Application Review Information

1. Criteria

Applications submitted under the Commodity Partnerships program will be evaluated within each RMA Region according to the following criteria:

Priority—Maximum 10 Points

The applicant can submit projects that are not related to Priority Commodities. However, priority is given to projects relating to Priority Commodities and the degree in which such projects relate to the Priority Commodities. Projects that relate solely to Priority Commodities will be eligible for the most points.

Project Benefits—Maximum 25 Points

The applicant must demonstrate that the project benefits to farmers and ranchers warrant the funding requested. Applicants will be scored according to the extent they can: (a) Reasonably estimate the number of producers reached through the various educational activities described in the Statement of Work; (b) justify such estimates with clear specifics; (c) identify the actions producers will likely be able to take as a result of the activities described in the Statement of Work; and (d) identify the specific measures for evaluating results that will be employed in the project. Reviewers' scoring will be based on the scope and reasonableness of the applicant's estimates of producers reached through the project, clear descriptions of specific expected project benefits, and well-designed methods for measuring the project's results and effectiveness.

Statement of Work—Maximum 35 Points

The applicant must produce a clear and specific Statement of Work for the project. For each of the tasks contained in the Description of Agreement Award (refer to Section II Award Information), the applicant must identify and describe specific subtasks, responsible entities, expected completion dates, RMA substantial involvement, and deliverables that will further the purpose of this program. Applicants will obtain a higher score to the extent that the Statement of Work is specific, measurable, reasonable, has specific deadlines for the completion of subtasks, relates directly to the required activities and the program purpose described in this announcement, and is sensitive to the needs of producers that are small, have limited resources, are minorities, or are beginning in a farming or ranching business. Applicants are required to submit this Statement of Work on Form RME-2.

Partnering—Maximum 15 Points

The applicant must demonstrate experience and capacity to partner with and gain the support of grower organizations, agribusiness professionals, and agricultural leaders to carry out a local program of education and information in a designated RMA Region. Applicants will receive higher scores to the extent that they can document and demonstrate: (a) That partnership commitments are in place for the express purpose of delivering the program in this announcement; (b) that a broad group of farmers and ranchers will be reached within the RMA Region; and (c) that a substantial effort has been made to partner with organizations that can meet the needs of producers that are small, have limited resources, are minorities, or are beginning farmers and ranchers.

Project Management—Maximum 15 Points

The applicant must demonstrate an ability to implement sound and effective project management practices. Higher scores will be awarded to applicants that can demonstrate organizational skills, leadership, and experience in delivering services or programs that assist agricultural producers in the respective RMA Region. If the applicant has been a recipient of other Federal or other government grants, cooperative agreements, or contracts, the applicant must also detail that they have consistently complied with financial and program reporting and auditing requirements. Applicants that will employ, or have access to, personnel who have experience in directing local educational programs that benefit agricultural producers will receive higher rankings.

2. Review and Selection Process

Applications will be evaluated using a two-part process. First, each application will be screened by RMA personnel to ensure that it meets the requirements in this announcement. Applications that do not meet the requirements of this announcement or are incomplete will not receive further consideration. Applications that meet announcement requirements will be sorted into the RMA Region in which the applicant proposes to conduct the project and will be presented to a review panel for consideration.

Second, the review panel will meet to consider and discuss the merits of each application. The panel will consist of not less than three independent reviewers. Reviewers will be drawn from USDA, other Federal agencies, and others representing public and private organizations, as needed. After considering the merits of all applications within an RMA Region, panel members will score each application according to the criteria and point values listed above. The panel will then rank each application against others within the RMA Region according to the scores received. A lottery will be used to resolve any instances of a tie score that might have a bearing on funding recommendations. If such a lottery is required, the names of all tied applicants will be entered into a drawing. The first tied applicant drawn will have priority over other tied applicants for funding consideration.

The review panel will report the results of the evaluation to the Manager of FCIC. The panel's report will include the recommended applicants to receive partnership agreements for each RMA Region. Funding will not be provided for an application receiving a score less than 50. Funding will not be provided for an application that is highly similar to a higher-scoring application in the same RMA Region. Highly similar is one that proposes to reach the same producers likely to be reached by another applicant that scored higher by the panel and the same general educational material is proposed to be delivered.

An organization, or group of organizations in partnership, may apply for funding under other FCIC or RMA programs, in addition to the program described in this announcement. However, if the Manager of FCIC determines that an application recommended for funding is sufficiently similar to a project that has been funded or has been recommended to be funded under another RMA or FCIC program, then the Manager may elect to not fund that application in whole or in part. The Manager of FCIC will make the final determination on those applications that will be awarded funding.

VI. Award Administration Information

1. Award Notices

Following approval by the awarding official of RMA of the applications to be selected for funding, project leaders whose applications have been selected for funding will be notified. Within the limit of funds available for such a purpose, the awarding official of RMA shall enter into partnership agreements with those selected applicants. The agreements provide the amount of Federal funds for use in the project period, the terms and conditions of the award, and the time period for the project. The effective date of the agreement shall be on the date the agreement is executed by both parties and it shall remain in effect for up to one year or through September 30, 2006, whichever is later.

After a partnership agreement has been signed, RMA will extend to award recipients, in writing, the authority to draw down funds for the purpose of conducting the activities listed in the agreement. All funds provided to the applicant by FCIC must be expended solely for the purpose for which the funds are obligated in accordance with the approved agreement and budget, the regulations, the terms and conditions of the award, and the applicability of Federal cost principles. No commitment of Federal assistance beyond the project period is made or implied for any award resulting from this notice.

Notification of denial of funding will be sent to applicants after final funding decisions have been made. Reasons for denial of funding can include, but are not limited to, incomplete applications, applications with evaluation scores that are lower than other applications in an RMA Region, or applications that propose to deliver education to groups of producers in an RMA Region that are largely similar to groups reached in a higher ranked application.

2. Administrative and National Policy Requirements

Requirement to Use Program Logo

Applicants awarded partnership agreements will be required to use a program logo and design provided by RMA for all instructional and promotional materials.

Requirement to Provide Project Information to an RMA-selected Contractor

Applicants awarded partnership agreements will be required to assist RMA in evaluating the effectiveness of its educational programs by providing documentation of educational activities and related information to any contractor selected by RMA for program evaluation purposes.

Private Crop Insurance Organizations and Potential Conflicts of Interest

Private organizations that are involved in the sale of Federal crop insurance, or that have financial ties to such organizations, are eligible to apply for funding under this announcement. However, such entities will not be allowed to receive funding to conduct activities that would otherwise be required under a Standard Reinsurance Agreement or any other agreement in effect between FCIC and the entity. Also, such entities will not be allowed to receive funding to conduct activities that could be perceived by producers as promoting one company's services or products over another's. If applying for funding, such organizations are encouraged to be sensitive to potential conflicts of interest and to describe in their application the specific actions they will take to avoid actual and perceived conflicts of interest.

Access to Panel Review Information

Upon written request from the applicant, scores from the evaluation panel, not including the identity of reviewers, will be sent to the applicant after the review and awards process has been completed.

Confidential Aspects of Proposals and Awards

The names of applicants, the names of individuals identified in the applications, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application. When an application results in a partnership agreement, that agreement becomes a part of the official record of RMA transactions, available to the public upon specific request. Information that the Secretary of Agriculture determines to be of a confidential, privileged, or proprietary nature will be held in confidence to the extent permitted by law. Therefore, any information that the applicant wishes to be considered confidential, privileged, or proprietary should be clearly marked within an application, including the basis for such designation. The original copy of a proposal that does not result in an award will be retained by RMA for a period of one year. Other copies will be destroyed. Copies of proposals not receiving awards will be released only with the express written consent of the applicant or to the extent required by law. A proposal may be withdrawn at any time prior to award.

Audit Requirements

Applicants awarded partnership agreements are subject to audit.

Prohibitions and Requirements with Regard to Lobbying

Section 1352 of Public Law 101-121, enacted on October 23, 1989, imposes prohibitions and requirements for disclosure and certification related to lobbying on recipients of Federal contracts, grants, cooperative agreements, and loans. It provides exemptions for Indian Tribes and tribal organizations. Current and prospective recipients, and any subcontractors, are prohibited from using Federal funds, other than profits from a Federal contract, for lobbying Congress or any Federal agency in connection with the award of a contract, grant, cooperative agreement, or loan. In addition, for each award action in excess of $100,000 ($150,000 for loans) the law requires recipients and any subcontractors: (1) To certify that they have neither used nor will use any appropriated funds for payment of lobbyists; (2) to disclose the name, address, payment details, and purpose of any agreements with lobbyists whom recipients of their subcontractors will pay with profits or other nonappropriated funds on or after December 22, 1989; and (3) to file quarterly up-dates about the use of lobbyists if material changes occur in their use. The law establishes civil penalties for non-compliance. A copy of the certification and disclosure forms must be submitted with the application and are available at the address and telephone number listed in Section VII. Agency Contact.

Applicable OMB Circulars

All partnership agreements funded as a result of this notice will be subject to the requirements contained in all applicable OMB circulars.

Requirement to Participate in Civil Rights Training

Project leaders of all partnership agreements funded as a result of this notice are required to know and abide by Federal civil rights laws. Agency policies or regulations may require that project leaders attend civil rights training to become fully aware of civil rights responsibilities. In their applications, applicants should budget for possible travel costs associated with receiving this training.

3. Reporting

Applicants awarded partnership agreements will be required to submit quarterly progress and financial reports (OMB Standard Form 269) throughout the project period, as well as a final program and financial report not later than 90 days after the end of the project period.

VII. Agency Contact

FOR FURTHER INFORMATION CONTACT: Applicants and other interested parties are encouraged to contact: Michelle Fuller, USDA-RMA-RME, 1400 Independence Ave., SW., Stop 0808, Washington, DC 20250-0808, phone: 202-720-6356, fax: 202-690-3605, e-mail: RMA.Risk-Ed@rma.usda.gov. You may also obtain information regarding this announcement from the RMA Web site at: http://www.rma.usda.gov.

VIII. Other Information

Related Programs

Funding availability for this program may be announced at approximately the same time as funding availability for similar but separate programs—CFDA No. 10.455 (Community Outreach and Assistance Partnerships), CFDA No. 10.456 (Risk Management Research Partnerships), CFDA No. 10.458 (Crop Insurance Education in Targeted States), and CFDA No. 10.459 (Commodity Partnerships Small Sessions program). These programs have some similarities, but also key differences. The differences stem from important features of each program's authorizing legislation and different RMA objectives. Prospective applicants should carefully examine and compare the notices for each program.

Signed in Washington, DC, on March 23, 2005.
Ross J. Davidson, Jr.,
Manager, Federal Crop Insurance Corporation.

[FR Doc. 05-6077 Filed 3-28-05; 8:45 am]

BILLING CODE 3410-08-P